Memorandum of September 12, 2003

Delegation of Functions Related to Loan Guarantees to Israel

Memorandum for the Secretary of State

By the authority vested in me by the Constitution and laws of the United States, including section 301 of title 3 of the United States Code, I hereby delegate to the Secretary of State the functions conferred upon the President under the heading “Loan Guarantees to Israel” in chapter 5 of title I of the Emergency Wartime Supplemental Appropriations Act, 2003 (Public Law 108-11).

You are authorized and directed to publish this memorandum in the Federal Register.

B

THE WHITE HOUSE,

Washington, September 12, 2003.

[FR Doc. 03-24108

Filed 9-18-03; 8:45 am]

Billing code 4710-10-P